DEPARTMENT OF TRANSPORTATION

Federal Railroad Administration

[Docket Number FRA-2011-0071]

Petition for Waiver of Compliance

In accordance with Part 211 of Title 49 of the Code of Federal Regulations (CFR), this document provides the public notice that by a document dated August 23, 2011, the Canadian National Railway (CN) has petitioned the Federal Railroad Administration (FRA) for a waiver of compliance from certain provisions of the Federal railroad safety regulations contained at 49 CFR part 236. FRA assigned the petition Docket Number FRA-2011-0071.

CN seeks relief from the 2-year periodic testing requirements of the rules, standards, and instructions contained in 49 CFR 236.377, Approach locking; 236.378, Time locking; 236.379, Route locking; 236.380, Indication locking; 236.381, Traffic locking; and 236.109, Time releases, timing relays and timing devices; on vital microprocessor-based systems. CN proposes that except when placed in service, disarranged, or vital software modifications are made, that the following test be completed at least once every 4 years to ensure the safety of microprocessor-based locking systems. These tests, at this interval, would replace the tests currently required for these systems.

• Verify and record that the software has not changed since the previous testing. This is accomplished by verifying the Cyclic Redundancy Code, checksum, and/or unique check number (UCN) of the software in the solid-state device.

• Test and record the interconnection to the signaling hardware and equipment outside of the processor (switch indication, switch locking, track circuits and indications, and searchlight signal indications).

• Verify and record duration of any variable timers unless protected by a UCN.

The relief is requested for the following three cases:

1. Locations as listed in Exhibit B.

2. All future purchases of microprocessor-controlled interlocking locations.

3. Interlocking sites upgraded to microprocessor control.

A copy of the petition, as well as any written communications concerning the petition, is available for review online at http://www.regulations.gov and in person at the U.S. Department of Transportation's (DOT) Docket Operations Facility, 1200 New Jersey Ave., SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received by November 18, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on September 28, 2011.
Robert C. Lauby,
Deputy Associate Administrator for Regulatory and Legislative Operations.

[FR Doc. 2011-25582 Filed 10-3-11; 8:45 am]

BILLING CODE 4910-06-P